DEPARTMENT OF ENERGY

Federal Energy Regulatory Commission

Combined Notice of Filings #1

Take notice that the Commission received the following electric corporate filings:

Docket Numbers: EC23-7-000.

Applicants: American Falls Solar, LLC, American Falls Solar II, LLC, CSOLAR IV South, LLC, CSOLAR IV West, LLC, EG CSolar Holdco LLC, EG NC II ID Holdco LLC.

Description: Joint Application for Authorization Under Section 203 of the Federal Power Act of American Falls Solar, LLC, et al.

Filed Date: 10/14/22.

Accession Number: 20221014-5237.

Comment Date: 5 p.m. ET 11/4/22.

Docket Numbers: EC23-8-000.

Applicants: Diversion Wind Energy LLC, Wagon Wheel Wind Project, LLC, Southwestern Electric Power Company.

Description: Joint Application for Authorization Under Section 203 of the Federal Power Act of Diversion Wind Energy LLC, et al.

Filed Date: 10/14/22.

Accession Number: 20221014-5239.

Comment Date: 5 p.m. ET 11/4/22.

Docket Numbers: EC23-9-000.

Applicants: Roosevelt Wind Project, LLC, Milo Wind Project, LLC.

Description: Joint Application for Authorization Under Section 203 of the Federal Power Act of Milo Wind Project, LLC, et al.

Filed Date: 10/14/22.

Accession Number: 20221014-5241.

Comment Date: 5 p.m. ET 11/4/22.

Take notice that the Commission received the following exempt wholesale generator filings:

Docket Numbers: EG23-9-000.

Applicants: FGE Goodnight I, LLC.

Description: The FGE Goodnight I, LLC submits Notice of Self-Certification of Exempt Wholesale Generator Status.

Filed Date: 10/14/22.

Accession Number: 20221014-5211.

Comment Date: 5 p.m. ET 11/4/22.

Docket Numbers: EG23-10-000.

Applicants: AL Solar D, LLC.

Description: AL Solar D, LLC submits Notice of Self-Certification of Exempt Wholesale Generator Status.

Filed Date: 10/17/22.

Accession Number: 20221017-5062.

Comment Date: 5 p.m. ET 11/7/22.

Take notice that the Commission received the following electric rate filings:

Docket Numbers: ER22-2988-000.

Applicants: DLS—Laskin Project Co, LLC, DLS—Sylvan Project Co, LLC, DLS—Jean Duluth Project Co, LLC.

Description: Request for Authorization to Undertake Affiliate Sales of DLS—Laskin Project Co, LLC, et al.

Filed Date: 9/30/22.

Accession Number: 20220930-5467.

Comment Date: 5 p.m. ET 10/21/22.

Docket Numbers: ER23-111-000.

Applicants: PJM Interconnection, L.L.C.

Description: § 205(d) Rate Filing: Amended ISA, Service Agreement No. 6369; Queue No. AE2-029 to be effective 2/10/2022.

Filed Date: 10/17/22.

Accession Number: 20221017-5041.

Comment Date: 5 p.m. ET 11/7/22.

Docket Numbers: ER23-112-000.

Applicants: PJM Interconnection, L.L.C.

Description: § 205(d) Rate Filing: Original Service Agreement No. 6653; Queue No. AD2-031/AF1-159 to be effective 9/16/2022.

Filed Date: 10/17/22.

Accession Number: 20221017-5044.

Comment Date: 5 p.m. ET 11/7/22.

Docket Numbers: ER23-113-000.

Applicants: AL Solar D, LLC.

Description: Baseline eTariff Filing: AL Solar D, LLC MBR Application Filing to be effective 10/18/2022.

Filed Date: 10/17/22.

Accession Number: 20221017-5060.

Comment Date: 5 p.m. ET 11/7/22.

Docket Numbers: ER23-115-000.

Applicants: Tri-State Generation and Transmission Association, Inc.

Description: § 205(d) Rate Filing: Amendment to Rate Schedule FERC No. 34 to be effective 12/16/2022.

Filed Date: 10/17/22.

Accession Number: 20221017-5076.

Comment Date: 5 p.m. ET 11/7/22.

Docket Numbers: ER23-116-000.

Applicants: El Paso Electric Company.

Description: § 205(d) Rate Filing: OATT Revisions Filing of Attachment M Related to Cluster Study Network Upgrades to be effective 10/19/2022.

Filed Date: 10/17/22.

Accession Number: 20221017-5085.

Comment Date: 5 p.m. ET 11/7/22.

Docket Numbers: ER23-117-000.

Applicants: Duke Energy Progress, LLC.

Description: § 205(d) Rate Filing: DEP-Sumac Solar—ASOA SA No. 406 to be effective 10/1/2022.

Filed Date: 10/17/22.

Accession Number: 20221017-5116.

Comment Date: 5 p.m. ET 11/7/22.

The filings are accessible in the Commission's eLibrary system (https://elibrary.ferc.gov/idmws/search/fercgensearch.asp) by querying the docket number. Any person desiring to intervene or protest in any of the above proceedings must file in accordance with Rules 211 and 214 of the Commission's Regulations (18 CFR 385.211 and 385.214) on or before 5:00 p.m. Eastern time on the specified comment date. Protests may be considered, but intervention is necessary to become a party to the proceeding. eFiling is encouraged. More detailed information relating to filing requirements, interventions, protests, service, and qualifying facilities filings can be found at: http://www.ferc.gov/docs-filing/efiling/filing-req.pdf. For other information, call (866) 208-3676 (toll free). For TTY, call (202) 502-8659.

Dated: October 17, 2022.
Debbie-Anne A. Reese,
Deputy Secretary.

[FR Doc. 2022-22919 Filed 10-20-22; 8:45 am]

BILLING CODE 6717-01-P